DEPARTMENT OF JUSTICE

Office of Justice Programs

[OJP (OCR) Docket No. 1567]

Hearings of the Review Panel on Prison Rape

AGENCY: Office of Justice Programs, Justice.

ACTION: Notice of hearing.

SUMMARY: The Office of Justice Programs (OJP) announces that the Review Panel on Prison Rape (Panel) will hold hearings in Washington, DC on September 15-16, 2011. The hearing times and location are noted below. The purpose of the hearings is to assist the Bureau of Justice Statistics (BJS) in identifying common characteristics of victims and perpetrators of sexual victimization in U.S. jails, and the common characteristics of jails with the highest and lowest incidence of rape, respectively, based on an anonymous survey by the BJS of inmates in a representative sample of U.S. jails. On August 26, 2010, the BJS issued the report Sexual Victimization in Prisons and Jails Reported by Inmates, 2008-09. The report provides a listing of jails grouped according to the prevalence of reported sexual victimization, and formed the basis of the Panel's decision about which facilities would be the subject of testimony.

DATES: The following facilities and individuals have been invited to testify:

1. Thursday, September 15, 2011, 8:30 a.m. to 5:30 p.m.: Bureau of Justice Statistics; Cynthia Totten, Wesley Ware, Elizabeth Cumming—advocates; Jennifer Sumner—UC Irvine; Orleans Parish (LA) Prison—facility with a high prevalence of sexual victimization; Clallam County (WA) Corrections Facility—facility with a high prevalence of sexual victimization; Miami-Dade (FL) Pre-Trial Detention Center—facility with a high prevalence of sexual victimization.

2. Friday, September 16, 2011, 8:30 a.m. 2:30 p.m.: American Jail Association; Arthur Wallenstein—Montgomery County (MD) Department of Correction and Rehabilitation; Russell Robinson—UC Berkeley Boalt Hall Law School; David L. Moss Criminal Justice Center (Tulsa, OK)—facility with a low prevalence of sexual victimization; Hinds County (MS) Work Center—facility with a low prevalence of sexual victimization.

ADDRESSES: The hearings will take place at the Office of Justice Programs Building, Main Conference Room, Third Floor, U.S. Department of Justice, 810 7th Street, NW., Washington, DC 20531.

FOR FURTHER INFORMATION CONTACT: Joseph Swiderski, Designated Federal Official for the Panel, at Joseph.Swiderski@usdoj.gov or (202) 514-8615. [Note: This is not a toll-free number.]

SUPPLEMENTARY INFORMATION: The Panel, which was established pursuant to the Prison Rape Elimination Act of 2003, Public Law 108-79, 117 Stat. 972 (codified as amended at 42 U.S.C. 15601-15609 (2006)), will hold its next hearings to carry out the review functions specified at 42 U.S.C. § 15603(b)(3)(A). Testimony from the hearings will assist the Panel in carrying out its statutory obligations. The witness list is subject to amendment; please refer to the Review Panel on Prison Rape Web site at http://www.ojp.usdoj.gov/reivewpanel.htm for any updates regarding the hearing schedule. Space is limited at the hearing location. Members of the public who wish to attend the hearing in Washington, DC must present government-issued photo identification upon entrance to OJP. Special needs requests should be made to Joseph Swiderski, Designated Federal Official for the Panel, at Joseph.Swiderski@usdoj.gov or (202) 514-8615 [Note: This is not a toll-free number], at least one week before the hearings.

Michael Alston,
Office of Justice Programs.

[FR Doc. 2011-23296 Filed 9-12-11; 8:45 am]

BILLING CODE 4410-18-P